DEPARTMENT OF DEFENSE

Department of the Navy

[Docket ID USN-2022-HQ-0030]

Proposed Collection; Comment Request

AGENCY: Department of the Navy, Department of Defense (DoD).

ACTION: 60-Day information collection notice.

SUMMARY: In compliance with the Paperwork Reduction Act of 1995, the Naval Sea Systems Command Shipping Industrial Base Task Force announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by December 27, 2022.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Naval Sea Systems Command Shipping Industrial Base Task Force, 1333 Isaac Hull Ave SE, Washington Navy Yard, DC 20376; ATTN: Mr. Matthew Evans, or call 202-781-0000.

SUPPLEMENTARY INFORMATION:

Title; Associated Form; and OMB Number: Shipbuilding Industrial Base Demographics Survey; OMB Control Number 0703-IDMS.

Needs and Uses: The Shipbuilding Industrial Base Demographic Survey is necessary to ensure a complete data set is available to meet the intent of Executive Order No. 13985 and Section 1026 of the William M. (Mac) Thornberry National Defense Authorization Act for Fiscal Year 2021, and provide actionable information on the Defense Industrial Base. The collected information will assist in drafting a biennial Report to Congress (RTC), as well as provide additional information and support Navy strategy for funding workforce development pilot programs and initiatives. This key demographic information will illustrate current trends, projected gaps in experience and age, and highlight additional areas of focus based on current workforce and skilled trade employment figures.

Affected Public: Businesses or other for-profit.

Annual Burden Hours: 6,075.

Number of Respondents: 1,263.

Responses per Respondent: 1.

Annual Responses: 1,263.

Average Burden per Response: 4.81 hours.

Frequency: Biennially.

The respondents for this survey are the suppliers in the shipbuilding industrial base (SIB). This includes private companies and industry organizations but is not inclusive of government shipyards and government organizations such as Naval Surface Warfare Centers. Suppliers in the SIB are key information holders on skilled workforce and are the only entities capable of answering the Congressional requirements set forth in the FY21 NDAA. Through the information provided, suppliers in the SIB will contribute to improving workforce enrollment and retention, assisting with targeting strategies and new programs aimed at expanding the skilled workforce available.

Dated: October 20, 2022.
Aaron T. Siegel,
Alternate OSD Federal Register Liaison Officer, Department of Defense.

[FR Doc. 2022-23236 Filed 10-25-22; 8:45 am]

BILLING CODE 5001-06-P